NUCLEAR REGULATORY COMMISSION

[Docket No. NRC-2010-0261]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on July 29, 2010.

1. Type of submission, new, revision, or extension: Extension.

2. The title of the information collection: 10 CFR part 4: “Nondiscrimination In Federally Assisted Commission Programs”.

3. Current OMB approval number: 3150-0053.

4. The form number if applicable: N/A.

5. How often the collection is required: Approximately 3 collection per year.

6. Who will be required or asked to report: All recipients of Federal financial assistance (grants) from the Nuclear Regulatory Commission (NRC).

7. An estimate of the number of annual responses: 800.

8. The estimated number of annual respondents: 200.

9. An estimate of the total number of hours needed annually to complete the requirement or request: 3,600 hours.

10. Abstract: Recipients of NRC financial assistance provide data to demonstrate assurance to NRC that they are in compliance with non-discrimination regulations and policies.

A copy of the final supporting statement may be viewed free of charge at the NRC Public Document Room, One White Flint North, 11555 Rockville Pike, Room O-1 F21, Rockville, MD 20852. OMB clearance requests are available at the NRC Worldwide Web site: http://www.nrc.gov/public-involve/doc-comment/omb/index.html. The document will be available on the NRC home page site for 60 days after the signature date of this notice.

Comments and questions should be directed to the OMB reviewer listed below by December 6, 2010. Comments received after this date will be considered if it is practical to do so, but assurance of consideration cannot be given to comments received after this date.

Christine J. Kymn, Desk Officer, Office of Information and Regulatory Affairs (3150-0053), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 28th day of October 2010.
For the Nuclear Regulatory Commission.
Tremaine Donnell,
NRC Clearance Officer, Office of Information Services.

[FR Doc. 2010-27865 Filed 11-3-10; 8:45 am]

BILLING CODE 7590-01-P